DEPARTMENT OF ENERGY

Federal Energy Regulatory Commission

Combined Notice of Filings #1

March 4, 2010.

Take notice that the Commission received the following electric corporate filings:

Docket Numbers: EC10-44-000.

Applicants: Cresent Ridge, LLC.

Description: Supplemental Information for Crescent Ridge LLC.

Filed Date: 03/04/2010.

Accession Number: 20100304-5045.

Comment Date: 5 p.m. Eastern Time on Monday, March 15, 2010.

Take notice that the Commission received the following electric rate filings:

Docket Numbers: ER10-689-001.

Applicants: Virginia Electric and Power Company.

Description: Dominion Virginia Power submits substitute sheet to the JOA reflects the modifications.

Filed Date: 03/03/2010.

Accession Number: 20100304-0209.

Comment Date: 5 p.m. Eastern Time on Wednesday, March 24, 2010.

Docket Numbers: ER10-812-000.

Applicants: Power Choice, Inc.

Description: Application of Power Choice Inc for an Order Accepting Initial Market Based Rate Schedule and Granting Waivers and Blanket Authorizations.

Filed Date: 03/03/2010.

Accession Number: 20100303-0223.

Comment Date: 5 p.m. Eastern Time on Wednesday, March 24, 2010.

Docket Numbers: ER10-820-000.

Applicants: Detroit Edison Company.

Description: Detroit Edison Company submits Notice of Cancellation to Open Access Transmission Tariff, FERC Electric Tariff, Original Volume 2 to confirm the cancellation of Detroit Edison's OATT, effective 3/4/2010.

Filed Date: 03/03/2010.

Accession Number: 20100303-0225.

Comment Date: 5 p.m. Eastern Time on Wednesday, March 24, 2010.

Docket Numbers: ER10-821-000.

Applicants: Central Maine Power Company

Description: Central Maine Power Company submits its Engineering and procurement Agreement dated February 3, 2010 with Spruce Mt Wind, LLC designated as Original Service Agreement CMP-EP-2-S under Schedule 23 etc.

Filed Date: 03/03/2010.

Accession Number: 20100303-0224.

Comment Date: 5 p.m. Eastern Time on Wednesday, March 24, 2010.

Docket Numbers: ER10-822-000.

Applicants: Southwest Power Pool, Inc.

Description: Southwest Power Pool, Inc. submits an executed Meter Agent Service Agreement with Westar Energy, Inc Generation Services.

Filed Date: 03/02/2010.

Accession Number: 20100303-0220.

Comment Date: 5 p.m. Eastern Time on Tuesday, March 23, 2010.

Docket Numbers: ER10-823-000.

Applicants: Southwest Power Pool, Inc.

Description: Southwest Power Pool, Inc submits an executed service agreement for Network Integration Transmission Service with Westar Energy, Inc. et al.

Filed Date: 03/02/2010.

Accession Number: 20100303-0221.

Comment Date: 5 p.m. Eastern Time on Tuesday, March 23, 2010.

Docket Numbers: ER10-824-000.

Applicants: Southwest Power Pool, Inc.

Description: Southwest Power Pool, Inc submits Service Agreement for Integration Transmission Service.

Filed Date: 03/02/2010.

Accession Number: 20100303-0222.

Comment Date: 5 p.m. Eastern Time on Tuesday, March 23, 2010.

Docket Numbers: ER10-826-000.

Applicants: Wisconsin Public Service Corporation.

Description: Wisconsin Public Service Corporation submits revised tariff sheets to reflect the actual 2009 value for billing for post-employment benefits and post-retirement benefits other than pensions.

Filed Date: 03/03/2010.

Accession Number: 20100304-0207.

Comment Date: 5 p.m. Eastern Time on Wednesday, March 24, 2010.

Docket Numbers: ER10-827-000.

Applicants: Pacific Gas and Electric Company.

Description: Pacific Gas and Electric Company submits filing and acceptance an amendment to Service Agreement for Wholesale Distribution Service etc.

Filed Date: 03/01/2010.

Accession Number: 20100304-0208.

Comment Date: 5 p.m. Eastern Time on Monday, March 22, 2010.

Docket Numbers: ER10-828-000.

Applicants: PJM Interconnection, L.L.C.

Description: PJM Interconnection, LLC submits an executed interconnection service agreement with Virginia Electric Power Co. et al.

Filed Date: 03/03/2010.

Accession Number: 20100304-0206.

Comment Date: 5 p.m. Eastern Time on Wednesday, March 24, 2010.

Docket Numbers: ER10-829-000.

Applicants: Southwest Power Pool, Inc.

Description: Southwest Power Pool, Inc submits an executed service agreement for Network Integration Transmission Service etc. with Southwestern Public Service Co.

Filed Date: 03/03/2010.

Accession Number: 20100304-0205.

Comment Date: 5 p.m. Eastern Time on Wednesday, March 24, 2010.

Docket Numbers: ER10-830-000.

Applicants: Southwest Power Pool, Inc.

Description: Southwest Power Pool. Inc submits Service Agreement for Network Transmission Service with Kaw Valley Electric Cooperative etc.

Filed Date: 03/03/2010.

Accession Number: 20100304-0204.

Comment Date: 5 p.m. Eastern Time on Wednesday, March 24, 2010.

Docket Numbers: ER10-831-000.

Applicants: Southwest Power Pool, Inc.

Description: Southwest Power Pool. Inc. submits Service Agreement for Network Transmission Service with Nemaha Marshall Electric Cooperative etc.

Filed Date: 03/03/2010.

Accession Number: 20100304-0203.

Comment Date: 5 p.m. Eastern Time on Wednesday, March 24, 2010.

Docket Numbers: ER10-832-000.

Applicants: Southwest Power Pool, Inc.

Description: Southwest Power Pool, Inc. submits Service Agreement for Network Integration Transmission Service with Municipal Energy Agency of Nebraska et al.

Filed Date: 03/03/2010.

Accession Number: 20100304-0202.

Comment Date: 5 p.m. Eastern Time on Wednesday, March 24, 2010.

Docket Numbers: ER10-833-000.

Applicants: Southwest Power Pool, Inc.

Description: Southwest Power Pool, Inc. submits revised pages to its Open Access Transmission Tariff intended to implement rate changes for KCP&L and GMO, which are transmission owners and pricing zones under SPP Tariff.

Filed Date: 03/03/2010.

Accession Number: 20100304-0201.

Comment Date: 5 p.m. Eastern Time on Wednesday, March 24, 2010.

Docket Numbers: ER10-834-000.

Applicants: The Connecticut Light and Power Company.

Description: Connecticut Light and Power Company submits notice of canceling the Interconnection Agreement among Dominion Nuclear Connecticut, Inc.

Filed Date: 03/04/2010.

Accession Number: 20100304-0217.

Comment Date: 5 p.m. Eastern Time on Thursday, March 25, 2010.

Docket Numbers: ER10-835-000.

Applicants: PJM Interconnection, L.L.C.

Description: PJM Interconnection, LLC submits an executed interconnection service agreement.

Filed Date: 03/04/2010.

Accession Number: 20100304-0216.

Comment Date: 5 p.m. Eastern Time on Thursday, March 25, 2010.

Docket Numbers: ER10-836-000.

Applicants: Delmarva Power & Light Company.

Description: Delmarva Power & Light Company submits an executed construction agreement with City of Milford.

Filed Date: 03/04/2010.

Accession Number: 20100304-0215.

Comment Date: 5 p.m. Eastern Time on Thursday, March 25, 2010.

Docket Numbers: ER10-837-000.

Applicants: Cleco Power LLC.

Description: Cleco Power LLC submits First Revised Sheet 8 et al. to its FERC Electric Tariff, Fourth Revised Volume 1 to be effective 3/5/10.

Filed Date: 03/04/2010.

Accession Number: 20100304-0214.

Comment Date: 5 p.m. Eastern Time on Thursday, March 25, 2010.

Take notice that the Commission received the following electric securities filings:

Docket Numbers: ES10-20-000.

Applicants: Ameren Services Company, Ameren Energy Generating Company, Central Illinois Public Service Company, Central Illinois Light Company, Union Electric Company.

Description: Supplemental Information of Ameren Services Company, et al.

Filed Date: 03/03/2010.

Accession Number: 20100303-5090.

Comment Date: 5 .p.m. Eastern Time on Monday, March 15, 2010.

Docket Numbers: ES10-27-000.

Applicants: Wolverine Power Supply Cooperative, Inc.

Description: Application for Authorization of the Assumption of Liabilities and the Issuance of Securities Under Section 204 of the Federal Power Act of Wolverine Power Supply Cooperative, Inc.

Filed Date: 03/03/2010.

Accession Number: 20100303-5078.

Comment Date: 5 p.m. Eastern Time on Wednesday, March 24, 2010.

Take notice that the Commission received the following public utility holding company filings:

Docket Numbers: PH10-10-000.

Applicants: Sempra Energy.

Description: FERC-65B Waiver Notice of Material Change in Facts.

Filed Date: 02/05/2010.

Accession Number: 20100205-5115.

Comment Date: 5 p.m. Eastern Time on Friday, March 12, 2010.

Docket Numbers: PH10-11-000.

Applicants: SteelRiver Infrastructure Partners LP.

Description: SteelRiver Infrastructure Partners LP's Exemption Notification—FERC Form 65-A.

Filed Date: 03/03/2010.

Accession Number: 20100303-5087.

Comment Date: 5 p.m. Eastern Time on Wednesday, March 24, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. 2010-5203 Filed 3-10-10; 8:45 am]

BILLING CODE 6717-01-P